DEPARTMENT OF COMMERCE

National Oceanic and Atmospheric Administration

Agency Information Collection Activities; Submission to the Office of Management and Budget (OMB) for Review and Approval; Comment Request; Billfish Tagging Report

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 24, 2020.

ADDRESSES: Interested persons are invited to submit written comments to Adrienne Thomas, NOAA PRA Officer, at Adrienne.thomas@noaa.gov. Please reference OMB Control Number 0648-0009 in the subject line of your comments. Do not submit Confidential Business Information or otherwise sensitive or protected information.

FOR FURTHER INFORMATION CONTACT: Requests for additional information or specific questions related to collection activities should be directed to Nicole Nasby-Lucas, Fisheries Biologist, NOAA Southwest Fisheries Science Center, 8901 La Jolla Shores Drive, La Jolla CA 92037, (858-334-2826), or Nicole.nasby-lucas@noaa.gov.

SUPPLEMENTARY INFORMATION:

I. Abstract

This request is for extension of a currently approved information collection.

The National Oceanic and Atmospheric Administration's Southwest Fisheries Science Center operates a conventional mark-recapture billfish tagging program. The Billfish Tagging Program (Program) began in 1963 and is an integral part of the Billfish Research Program at the Southwest Fisheries Science Center (SWFSC). This Program is authorized under 16 U.S.C. 760(e), Study of migratory game fish; waters; research; purpose.

The SWFSC provides tagging supplies to individuals electing to tag and release the billfish they catch (the Program is advertised by a newsletter and fishermen hear in this way and also by word of mouth from others catching billfish). Each Billfish Tagging Report Card is issued with an individual billfish tag and is imprinted with the number matching the accompanying tag. The Billfish Tagging Report Card is the primary mechanism by which these cooperating anglers and commercial fishers return the tag and release information concerning the billfish they have tagged. Individuals cooperating in the Program do so on a strictly voluntary basis.

Tagging supplies are provided to volunteer anglers. When anglers catch and release a tagged fish, they submit a brief report on the fish and the location of the tagging. The Program is conducted throughout the year to determine billfish habitat, mortality rates, migration patterns, feeding habits, and growth rates. Fishery biologists investigating the health of billfish resources throughout the Pacific utilize data from this Program. Results aid in ongoing research concerning billfish resources and are published annually in the Billfish Newsletter.

II. Method of Collection

Information is submitted by mail, via a paper form the size of a postcard.

III. Data

OMB Control Number: 0648-0009.

Form Number(s): NOAA 88-162.

Type of Review: Regular submission (extension of a current information collection).

Affected Public: Individuals or households.

Estimated Number of Respondents: 1000.

Estimated Time per Response: 5 minutes.

Estimated Total Annual Burden Hours: 83.

Estimated Total Annual Cost to Public: $0.

Respondent's Obligation: Voluntary.

Legal Authority: This program is authorized under 16 U.S.C. 760(e), Study of migratory game fish; waters; research; purpose.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-13528 Filed 6-23-20; 8:45 am]

BILLING CODE 3510-22-P